ADMINISTRATIVE CONFERENCE OF THE UNITED STATES

Notice of Public Meeting of the Assembly of the Administrative Conference of the United States

AGENCY: Administrative Conference of the United States.

ACTION: Notice.

SUMMARY: Pursuant to the Federal Advisory Committee Act (5 U.S.C. App.), the Assembly of the Administrative Conference of the United States will hold a meeting to consider three proposed recommendations and one proposed statement, and to conduct other business. This meeting will be open to the public.

DATES: The meeting will take place on Thursday, December 5, 2013, 2:00 p.m. to 6:00 p.m., and on Friday, December 6, 2013, 9:00 a.m. to 12:00 noon. Please note that the meeting may adjourn early if all business is finished.

ADDRESSES: The meeting will be held at the Commodity Futures Trading Commission, Three Lafayette Centre, 1155 21st Street NW., Washington, DC 20581 (Main Conference Room).

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: The Assembly will discuss and consider three recommendations and one statement, as described below:

• Improving the Timeliness of OIRA Regulatory Review. This proposed statement highlights potential mechanisms for improving review times for rules under review by the Office of Information and Regulatory Affairs (OIRA), including promoting enhanced coordination between OIRA and agencies prior to the submission of rules, encouraging increased transparency concerning the reasons for delayed reviews, and ensuring that OIRA has adequate staffing to complete reviews in a timely manner.

• Remand Without Vacatur. This proposed recommendation examines the judicial remedy of remand without vacatur on review of agency action and equitable factors that may justify its application. It also offers guidance for courts that remand agency actions and for agencies responding to judicial remands.

• Social Media in Rulemaking. This proposed recommendation provides guidance to agencies on whether, how, and when social media might be used both lawfully and effectively to support rulemaking activities.

• The GPRA Modernization Act of 2010: Examining Constraints to, and Providing Tools for, Cross-Agency Collaboration. This proposed recommendation examines perceived and real constraints to cross-agency collaboration under the Government Performance and Results Act (GPRA) Modernization Act and highlights tools available to help agencies collaborate. It offers guidance to help increase transparency, improve information sharing, and facilitate better agency reporting under the Act. The recommendation is also aimed at enhancing the role of agency attorneys and other agency staff in facilitating cross-agency collaboration.

Additional information about the proposed recommendations and the order of the agenda, as well as other materials related to the meeting, can be found at the 59th Plenary Session page on the Conference's Web site: (http://www.acus.gov/meetings-and-events/plenary-meeting/59th-plenary-session).

Public Participation: The Conference welcomes the attendance of the public at the meeting, subject to space limitations, and will make every effort to accommodate persons with disabilities or special needs. Members of the public who wish to attend in person are asked to RSVP online at the 59th Plenary Session Web page listed above, no later than two days before the meeting, in order to facilitate entry. Members of the public who attend the meeting may be permitted to speak only with the consent of the Chairman and the unanimous approval of the members of the Assembly. If you need special accommodations due to disability, please inform the Designated Federal Officer noted above at least 7 days in advance of the meeting. The public may also view the meeting through a live webcast, which will be available at: http://acus.granicus.com/ViewPublisher.php?view_id=2. In addition, the public may follow the meeting on our Twitter feed @acusgov or hashtag #59thPlenary.

Written Comments: Persons who wish to comment on any of the proposed recommendations may do so by submitting a written statement either online by clicking “Submit a Comment” on the 59th Plenary Session Web page listed above or by mail addressed to: December 2013 Plenary Session Comments, Administrative Conference of the United States, Suite 706 South, 1120 20th Street NW., Washington, DC 20036. Written submissions must be received at least 7 days prior to the meeting to assure consideration by the Assembly.

Dated: November 15, 2013.
Shawne McGibbon,
General Counsel.

[FR Doc. 2013-27815 Filed 11-19-13; 8:45 am]

BILLING CODE 6110-01-P